DEPARTMENT OF HEALTH AND HUMAN SERVICES

Administration for Children and Families

Proposed Information Collection Activity; Comment Request

Proposed Projects:

Title: Order/Notice to Withold Income for Child Support.

OMB No.: 0970-0154.

Description: The Social Security Act requires that child support agencies, courts, tribes, private attorneys and all other entities use the OMB approved federal Income Withholding for Support when ordering or sending notice to employers/income withholders of the requirement to withhold income for child support. 42 U.S.C. 666(b)(6)(i) and (ii) requires the use of the Income Withholding for Support form in all cases enforced by child support agencies where payment is made by income withholding, whether the case is processed administratively or through the court. 42 U.S.C. 666(a)(8)(B)(iii) provides that the requirements of section 666(b)(6) are applicable to cases not being enforced by the state child support agency or private cases with initial orders issued on or after January 1, 1994. The form promotes standardization and is used for title IV-D and non-IV-D cases that require income withholding.

The Income Withholding for Support has been modified to address items identified by states and employers/income withholders. The shading on the form was removed because it obscures information when the form is faxed or scanned to an employer/income withholder. Also, a check box has been added to allow employers/income withholders to return the Income Withholding for Support form if payments are not directed through the State Disbursement Unit (SDU) as required by federal and state laws. With the addition of a mechanism to return Income Withholding for Support forms, payment instructions that conflict with federal and state laws will be addressed.

Respondents: Not applicable.

Annual Burden Estimates
Instrument | Number of respondents | Number of responses per respondent | Average burden hours per response | Total burden hours

Estimated Total Annual Burden Hours: 0.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 24, 2010.
Robert Sargis,
Reports Clearance Officer.

[FR Doc. 2010-15798 Filed 6-29-10; 8:45 am]

BILLING CODE 4184-01-P